DEPARTMENT OF ENERGY

Federal Energy Regulatory Commission

[Docket No. EL11-61-000]

Notice of Petition for Declaratory Order; Southern Cross Transmission LLC

Take notice that on September 6, 2011, pursuant to Rule 207(a)(2) of the Rules of Practice and Procedure of the Federal Energy Regulatory Commission (Commission), 18 CFR 385.207(a)(2) (2011), Southern Cross Transmission LLC (Southern Cross), filed a Petition for Declaratory Order, requesting the Commission find that Southern Cross may allocate up to 1,500 MW of its 400 mile, bi-directional, high voltage direct current transmission project (Project) to anchor customers through long-term firm negotiated rate transmission service agreements with whatever capacity that is not committed to anchor customers be made available through an open season auction but in no event less than 25 percent of the Project's final contemplated capacity.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 6, 2011.

Dated: September 15, 2011.
Kimberly D. Bose,
Secretary.

[FR Doc. 2011-24308 Filed 9-21-11; 8:45 am]

BILLING CODE 6717-01-P